DEPARTMENT OF THE INTERIOR

National Park Service

[NPS-WASO-CONC-22415; PPWOBSADC0, PPMVSCS1Y.Y00000]

Notice of Extension of Concession Contracts

AGENCY: National Park Service, Interior.

ACTION: Public notice.

SUMMARY: The National Park Service hereby gives public notice that it proposes to extend the expiring concession contract listed below for 1 year or until the effective date of a new contract, whichever occurs sooner.

DATES: Effective January 1, 2017.

FOR FURTHER INFORMATION CONTACT: Brian Borda, Program Chief, Commercial Services Program, National Park Service, 1201 Eye Street NW., 11th Floor, Washington, DC 20005, Telephone: 202-513-7156.

SUPPLEMENTARY INFORMATION: The following concession contract will expire by its term on or before December 31, 2016. The National Park Service has determined the proposed extensions is necessary to avoid interruption of visitor services and has taken all reasonable and appropriate steps to consider alternatives to avoid such interruption. The publication of this notice merely reflects the intent of the National Park Service and does not bind the National Park Service to extend the contract listed below.

The National Park Service authorizes extension of visitor services for the following contract under the terms and conditions of the current contract (as amended if applicable). The extension of operations does not affect any rights with respect to selection for award of a new concession contract.

Park unit | CONCID | Concessioner
Rocky Mountain National Park | CC-ROMO002-02 | Hi Country Stables, Inc.

Dated: November 28, 2016.
Teresa Austin,
Associate Director, Business Services.

[FR Doc. 2016-30248 Filed 12-15-16; 8:45 am]

BILLING CODE 4312-52-P